DEPARTMENT OF HEALTH AND HUMAN SERVICES

National Toxicology Program (NTP); Center for the Evaluation of Risks to Human Reproduction (CERHR); NTP Workshop: Role of Environmental Chemicals in the Development of Diabetes and Obesity

AGENCY: National Institute of Environmental Health Sciences (NIEHS); National Institutes of Health (NIH).

ACTION: Announcement of a workshop and request for information and comments.

SUMMARY: The NTP announces a workshop on January 11-13, 2011, to evaluate the science associating exposure to certain chemicals or chemical classes with the development of diabetes and obesity in humans. The NTP invites the submission of public comments and relevant data for consideration at the workshop. Registration to attend the workshop is closed; however, slides presented during the plenary sessions will be webcast over the Internet. Information about the workshop may be found at http://cerhr.niehs.nih.gov/evals/diabetesobesity/index.html.

DATES: The workshop will be held January 11-13, 2011, and begin each day at 8:30 a.m. Eastern Standard Time and end at approximately 5 p.m. on January 11 and 12 and approximately 12:30 p.m. on January 13. Written comments and data should be received by January 3, 2010, to enable review by NIEHS/NTP staff and workshop panelists prior to the meeting.

ADDRESSES: The meeting will be held at the Marriott Crabtree Valley Hotel, 4500 Marriott Drive, Raleigh, NC 27612 (919-781-7000). All correspondence should be directed to Dr. Kristina Thayer, NTP/CERHR, NIEHS, P.O. Box 12233, MD K2-04, Research Triangle Park, NC 27709 (mail), 919-541-5021 (telephone), or thayer@niehs.nih.gov (e-mail). Courier address: NIEHS, 530 Davis Drive, Room K2163, Morrisville, NC 27560. The Web site for the meeting is http://cerhr.niehs.nih.gov/evals/diabetesobesity/index.html.

FOR FURTHER INFORMATION CONTACT: Dr. Kristina Thayer at 919-541-5021 or thayer@niehs.nih.gov.

SUPPLEMENTARY INFORMATION:

Background

There has been increasing interest in the concept that environmental chemicals may be contributing factors to the epidemics of diabetes and obesity. The NTP is holding a workshop to evaluate the science associating exposure to certain chemicals or chemical classes with the development of diabetes and obesity in humans. The workshop's overall goals are to:

• Evaluate strengths/weaknesses, consistency, and biological plausibility of findings reported in humans and experimental animals for certain environmental chemicals including arsenic, cadmium, chlorinated organohalogens, other organohalogens, bisphenol A, phthalates, and organotins.

• Identify the most useful and relevant endpoints in experimental animals and in vitro models.

• Identify relevant pathways and biological targets for assays for the Toxicology Testing in the 21st Century (“Tox21”) high throughput screening initiative.

• Identify data gaps and areas for future evaluation/research.

The workshop will include plenary sessions and breakout group sessions for in-depth discussion. This meeting is open to the public with time set aside for public comments during the plenary session on the first day. The public is invited to attend the breakout groups as observers. Please note that registration for physical attendance at the meeting is closed because the capacity to accommodate participants has been reached. The NTP also invites the submission of written public comments and relevant data for consideration in the workshop. A copy of the agenda and any additional information about the workshop, including background materials, public comments, and invited participants, will be posted on the meeting page http://cerhr.niehs.nih.gov/evals/diabetesobesity/index.html. Slide presentations made during plenary sessions of the meeting will be Webcast with instructions for access posted on the meeting page. Individuals will need to request access to a teleconference line in order to hear the audio portions of plenary sessions (discussed in more detail below).

Request for Information and Comments

CERHR invites the public and other interested parties to submit information relevant to the workshop including completed and ongoing studies and information on planned studies. This information will be considered by NTP staff and invited participants prior to the workshop and may be discussed at the public meeting. Information should be submitted to Dr. Thayer (see ADDRESSES). Public input at this meeting is invited and time is set aside for the presentation of public comments during the plenary session on January 11, 2011. Each organization is allowed one speaker during the public comment period. At least 7 minutes will be allotted to each speaker, and if time permits, may be extended to 10 minutes. Registration to attend the meeting in person is closed as capacity to accommodate participants has been reached. Persons not already registered to attend the meeting who wish to present oral comments by phone on January 11 are encouraged to pre-register on the meeting Web site and select the option “Submitting Public Comments, Oral (by telephone).”

There will be 50 telephone lines available for providing public comments on January 11th and to hear the audio portions of plenary sessions; availability will be on a first-come, first-served basis. The available lines will be open from 8:30 a.m. until 5 p.m. on January 11 and January 12 and open from 8:30 a.m. until adjournment on January 13. The access number for the teleconference line will be provided to registrants by e-mail prior to the meeting. Registration for oral comments will also be available onsite, although time allowed for presentation by on-site registrants may be less than that for pre-registered speakers and will be determined by the number of persons who register at the meeting. Written statements can supplement and may expand the oral presentation. If registering onsite and reading from written text, please bring 50 copies of the statement for distribution and to supplement the record. Written comments received in response to this notice will be posted on the meeting page http://cerhr.niehs.nih.gov/evals/diabetesobesity/index.html identified by the submitter's name and affiliation and/or sponsoring organization (if applicable). Persons submitting written comments should include their name, affiliation, mailing address, phone, fax, e-mail, and sponsoring organization (if any) with the document.

Registration: Registration to attend the meeting in person is closed as the capacity to accommodate participants has been reached. Persons needing interpreting services in order to attend should contact 301-402-8180 (voice) or 301-435-1908 (TTY) and are asked to notify the NTP at least 7 business days in advance of the meeting.

Background Information on CERHR

The NTP and the National Institute of Environmental Health Sciences established the NTP Center for the Evaluation of Risks to Human Reproduction (CERHR) in 1998 (63 FR 68782) to serve as an environmental health resource to the public and to regulatory and health agencies. CERHR evaluations assess the evidence whether environmental chemicals, physical substances, or mixtures (collectively referred to as “substances”) cause adverse effects on reproduction and development and provide opinion on whether these substances are hazardous for humans. CERHR also organizes workshops or state-of-the-science evaluations to address issues of importance in environmental health sciences. CERHR assessments are published as NTP Monographs. Information about CERHR can be obtained from its homepage http://cerhr.niehs.nih.gov.

Dated: December 2, 2010.
John R. Bucher,
Associate Director, National Toxicology Program.

[FR Doc. 2010-31052 Filed 12-9-10; 8:45 am]

BILLING CODE 4140-01-P